DEPARTMENT OF ENERGY

Federal Energy Regulatory Commission

[Docket Nos. EL18-126-000; EL18-127-000; EL18-128-000; EL18-129-000; EL18-130-000]

Ontelaunee Power Operating Company, LLC; Liberty Electric Power, LLC; Dynegy Hanging Rock II, LLC; Dynegy Washington II, LLC; Dynegy Fayette II, LLC; Notice of Institution of Section 206 Proceeding and Refund Effective Date

On April 5, 2018, the Commission issued an order in Docket Nos. EL18-126-000, EL18-127-000, EL18-128-000, EL18-129-000, and EL18-130-000, pursuant to section 206 of the Federal Power Act (FPA), 16 U.S.C. 824e (2012), instituting an investigation into whether Ontelaunee Power Operating Company, LLC, Liberty Electric Power, LLC, Dynegy Hanging Rock II, LLC, Dynegy Washington II, LLC, and Dynegy Fayette II, LLC's reactive power rates may be unjust and unreasonable. Ontelaunee Power Operating Company, LLC, et al., 163 FERC ¶ 61, 014 (2018).

The refund effective date in Docket Nos. EL18-126-000, EL18-127-000, EL18-128-000, EL18-129-000, and EL18-130-000, established pursuant to section 206(b) of the FPA, will be the date of publication of this notice in the Federal Register.

Any interested person desiring to be heard in Docket Nos. EL18-126-000, EL18-127-000, EL18-128-000, EL18-129-000, and EL18-130-000 must file a notice of intervention or motion to intervene, as appropriate, with the Federal Energy Regulatory Commission, 888 First Street NE, Washington, DC 20426, in accordance with Rule 214 of the Commission's Rules of Practice and Procedure, 18 CFR 385.214, within 21 days of the date of issuance of the order.

Dated: April 6, 2018.
Kimberly D. Bose,
Secretary.

[FR Doc. 2018-07554 Filed 4-11-18; 8:45 am]

BILLING CODE 6717-01-P